DEPARTMENT OF DEFENSE

Department of the Air Force

[Docket ID: USAF-2016-HQ-0004]

Privacy Act of 1974; System of Records

AGENCY: Department of the Air Force, DoD.

ACTION: Notice to delete a system of records.

SUMMARY: The Department of the Air Force proposes to delete one system of records notice from its inventory of record systems subject to the Privacy Act of 1974, as amended. The system of records notice is F035 AF SAFPA D, entitled “Your Guardians of Freedom User Database.”

DATES: Comments will be accepted on or before August 29, 2016. This proposed action will be effective on the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. LaDonne L. White, Department of the Air Force Privacy Office, Air Force Privacy Act Office, Office of Warfighting Integration and Chief Information Officer, ATTN: SAF/CIO A6, 1800 Air Force Pentagon, Washington, DC 20330-1800, or by phone at (571) 256-2515.

SUPPLEMENTARY INFORMATION: The Department of the Air Force systems of records notices subject to the Privacy Act of 1974 (5 U.S.C. 552a), as amended, have been published in the Federal Register and are available from the address in FOR FURTHER INFORMATION CONTACT or at the Defense Privacy, Civil Liberties and Transparency Division Web site at http://dpcld.defense.gov/. The Department of the Air Force proposes to delete one system of records notice from its inventory of record systems subject to the Privacy Act of 1974 (5 U.S.C. 552a), as amended. The proposed deletion is not within the purview of subsection (r) of the Privacy Act of 1974 (5 U.S.C. 552a), as amended, which requires the submission of a new or altered system report.

Dated: July 25, 2016.
Aaron Siegel,
Alternate OSD Federal Register Liaison Officer, Department of Defense.

Deletion:

F035 AF SAFPA D

Your Guardians of Freedom User Database (November 18, 2003, 68 FR 65038)

Reason: SAF/PA no longer maintains the Your Guardians of Freedom database. The program ended in 2006 and the database was decommissioned. The records retention period was for one year (2007), after which all remaining records were deleted in 2008.

[FR Doc. 2016-17871 Filed 7-27-16; 8:45 am]

BILLING CODE 5001-06-P